DEPARTMENT OF THE TREASURY

Office of the Assistant Secretary for International Affairs

Survey of Foreign Portfolio Investment in the United States as of March 31, 2000

AGENCY: Department of the Treasury.

ACTION: Notice of reporting requirements.

SUMMARY: By this Notice, the Department of the Treasury is informing the public that it is conducting a mandatory survey of foreign holdings of United States securities as of March 31, 2000. This Notice constitutes legal notification to all United States persons (defined below) who meet the reporting requirements set forth in this Notice that they must respond to, and comply with, this survey. United States persons who meet the reporting requirements but who do not receive a set of the survey forms and instructions should contact the Federal Reserve Bank of New York, acting as fiscal agent for the Department of the Treasury, at (212) 720-8211 to obtain a copy.

DEFINITION: A U.S. person is any individual, branch, partnership, associated group, association, estate, trust, corporation, or other organization (whether or not organized under the laws of any State), and any government (including a foreign government, the United States Government, a state, provincial, or local government, and any agency, corporation, financial institution, or other entity or instrumentality thereof, including a government-sponsored agency), who resides in the United States or is subject to the jurisdiction of the United States.

WHO MUST REPORT: The following U.S. persons must report on this survey:

—U.S. persons who manage the safekeeping of U.S. securities (as specified below) for foreign persons. These U.S. persons, who include the affiliates in the United States of foreign entities, and are henceforth referred to as U.S. custodians, must report on this survey if the total market value of the U.S. securities whose safekeeping they manage on behalf of foreign persons—aggregated over all accounts and for all branches and affiliates of their firm—is $20 million or more as of March 31, 2000.

—U.S. persons who issue securities, if the total market value of their securities owned directly by foreign persons—aggregated over all securities issued by all subsidiaries and affiliates of the firm, including investment companies, trusts, and other legal entities created by the firm—is $20 million or more as of March 31, 2000. U.S. issuers should report only foreign holdings of their securities which are directly known to them; i.e., where issuer ownership records reflect a foreign owner directly. Securities held by U.S. nominees, such as bank or broker custody departments, should be considered to be U.S.-held securities as far as the issuer is concerned.

WHAT TO REPORT: The survey will measure foreign holdings of all equity securities, and all debt securities with an original term-to-maturity in excess of one year.

HOW TO REPORT: Copies of the survey forms and instructions, which contain complete information on reporting procedures, can be obtained by contacting Mr. Tony Alvarez at (212) 720-8211 or the survey staff at (212) 720-6300, e-mail: tony.alvarez@ny.frb.org or inbound.help@ny.frb.org. The mailing address is: Federal Reserve Bank of New York, Foreign Portfolio Investment Unit, Second Floor, 33 Liberty Street, New York, NY 10045-0001. Inquiries can also be made to Mr. William L. Griever, Federal Reserve Board of Governors, at (202) 452-2924, e-mail: william.l.griever@frb.gov; or to Dwight Wolkow at (202) 622-1276, e-mail: wolkowd@do.treas.gov.

WHEN TO REPORT: Data should be submitted to the Federal Reserve Bank of New York, acting as fiscal agent for the Department of the Treasury, by June 30, 2000.

PAPERWORK REDUCTON ACT NOTICE: This data collection has been approved by the Office of Management and Budget (OMB) in accordance with the Paperwork Reduction Act and assigned control number 1505-0123. An agency may not conduct or sponsor, and a person is not required to respond to, a collection of information unless it displays a valid control number assigned by OMB. The estimated average annual burden associated with this collection of information is 16 hours per respondent for exempt reporters, 40 hours per respondent for issuers of securities, and 160 hours per respondent for custodians of securities. Comments concerning the accuracy of this burden estimate and suggestions for reducing this burden should be directed to the Department of the Treasury, Attention Administrator, International Portfolio Investment Data Systems, Room 5205 MT, Washington, D.C. 20220, and to OMB, Attention Desk Officer for the Department of the Treasury, Office of Information and Regulatory Affairs, Washington, D.C. 20503.

Dated: January 11, 2000.

Dated: January 11, 2000.
Dwight Wolkow,
Administrator, International Portfolio Investment Data Reporting Systems.

[FR Doc. 00-1018 Filed 1-14-00; 8:45 am]

BILLING CODE 4810-25-M